DEPARTMENT OF AGRICULTURE

Foreign Agricultural Service

Notice of Funding Availability: Inviting Applications for the McGovern-Dole International Food for Education and Child Nutrition Program; Correction

ACTION: Notice; correction.

SUMMARY: The Foreign Agricultural Service (FAS) published a notice in the Federal Register on July 28, 2011, inviting proposals for the McGovern-Dole International Food for Education and Child Nutrition (McGovern-Dole) program. The notice stated that eligible applicants could submit proposals through October 26, 2011. This date was incorrect and, by this notice, FAS is correcting the due date to September 30, 2011. Also, this notice serves to inform all applicants of the eligibility requirements, makes minor changes to the application and review process, and provides updates to web links for helpful documents.

DATES: Effective: September 9, 2011.

FOR FURTHER INFORMATION CONTACT: Food Assistance Division, Office of Capacity Building and Development, Foreign Agricultural Service, 1400 Independence Avenue, SW., Stop 1034, Washington, DC 20250; or by phone: (202) 720-4221; or by fax: (202) 690-0251; or by e-mail at: ppded@fas.usda.gov.

SUPPLEMENTARY INFORMATION:

Correction

In the Federal Register of July 28, 2011, in FR Doc. 2011-19135, on page 45223, in the first column, correct the DATES section to read:

DATES: All applications must be received by 5 p.m. Eastern Standard Time on September 30, 2011. Applications received after this date will not be considered. More information can be found at http://www.fas.usda.gov/food-aid.asp.

I. Funding Opportunity Description

In the Federal Register of July 28, 2011, in FR Doc. 2011-19135, on page 45224, in the second column, correct the paragraph “C. Deadline for Submission” and correct the Web site in “D. Priorities” section to read:

C. Deadline for Submission: All applications must be received by 5 p.m. Eastern Standard Time, September 30, 2011. Applications received after this date will not be considered.

D. Priorities: http://w2.fas.usda.gov/excredits/FoodAid/2012Solicitation/MGDPriorities.pdf.

III. Eligibility Information

In the Federal Register of July 28, 2011, in FR Doc. 2011-19135, on page 45224, in the first column, correct the “III. Eligibility Information” section to read:

Compliance With 2 CFR 25.200

For eligibility requirements, see the McGovern-Dole Program regulations (7 CFR 1599.3) and regulations for compliance to 2 CFR 25.200 and 25.110. All applicants submitting applications for the McGovern-Dole Program under this notice must comply with 2 CFR 25.200 which requires that all entities that apply for the program and do not have an exemption under 2 CFR 25.110 to:

(1) Be registered in the Central Contractor Registration (CCR) prior to submitting an application or;

(2) Maintain an active CCR registration with current information at all times during which it has an active Federal award or an application or plan under consideration by an agency; and

(3) Provide its Data Universal Numbering System (DUNS) number in each application or plan it submits to the agency.

Compliance with 2 CFR 25.110

Any applicant seeking an exemption to 2 CFR 25.200 may request one in accordance with 2 CFR 25.110(2) by sending a written request to: Director, Food Assistance Division, FAS, USDA, 1400 Independence Ave., SW., Stop 1034. Washington, DC 20250; or by, e-mail at: ppded@fas.usda.gov.

IV. Application and Submission Information

In the Federal Register of July 28, 2011, in FR Doc. 2011-19135, on page 45224, in the first column, correct Web site in the second paragraph in “A. Application Content” and “C. Deadline for Submission” section to read:

A. Application Content: http://www.fas.usda.gov/excredits/FoodAid/FFE/EvalPolicy.pdf

C. Deadline for Submission: All applications must be received by 5 p.m. Eastern Standard Time, September 30, 2011. Applications received after this date will not be considered.

V. Selecting Project Objectives and Results

In the Federal Register of July 28, 2011, in FR Doc. 2011-19135, on page 45224, in the second column, correct the “A. Results Framework” and “B. Incorporating Results Into Proposals” sections and correct the Web site in “C. Additional Information” section to read:

A. Results Frameworks: In an effort to use scarce resources more strategically, FAS has developed two results frameworks for the McGovern-Dole Program. Applicants must tailor their proposals and prepare a framework based on the Literacy Results Framework. The highest-level result of this framework is “Improved Literacy of School-aged Children.” Proposals that do not contribute to this highest-level objective will not be funded in FY 2012. The Good Health and Dietary Practices Results Framework shows “Increased Use of Good Health and Dietary Practices” as its highest result. This result contributes to one of the lower-level results in the Literacy Results Framework. Applicants may also, but are not required to, tailor their proposals and prepare a framework based on the Good Health and Dietary Practices Results Framework. FAS considers that it is not sufficient for a proposal to improve literacy; it is equally important to sustain the improvements made to literacy, attendance, and enrollment. Therefore, applications must also include a plan to graduate project activities to the host country that consists of specific activities linked to specific results in the framework(s) and timelines for achieving them. A matrix of possible activities that support sustainability as well as the results frameworks are available on the FAS Web site at: http://w2.fas.usda.gov/excredits/FoodAid/2012Solicitation/MGDRFs.pdf.

B. Incorporating Results Into Proposals: Applicants must submit a framework(s) that shows the intended results for the proposed project. The primary project framework submitted by the applicant must be consistent with the program-level Literacy Results framework that FAS has developed. Applicants may add results to or subtract results from this framework as appropriate but may not modify any of the remaining results. As an attachment to the Introductory Statement, applicants must provide a strategic analysis of how the proposed project will contribute to the highest-level result of the McGovern-Dole Program Literacy Results framework; i.e., improved literacy of school-aged children, as well as how graduation will be achieved. The strategic analysis should focus on the country-specific context for the project and discuss key problems or barriers that might affect the applicant's ability to achieve the highest-level result. The strategic analysis should explain why the application includes results for specific portions of the Literacy Results framework and excludes results from others. Applicants should include a discussion of existing strengths in the host country or investments by other donors that justify excluding certain results. The strategic analysis should allow FAS to understand which results the applicant expects to achieve with McGovern-Dole Program funds and which it expects to be achieved by other means. In addition, the strategic analysis should enable FAS to make sure that the application addresses key problems, barriers, or weaknesses in the country.

C. Additional Information: http://w2.fas.usda.gov/excredits/FoodAid/2012Solicitation/ROMPolicyGuidance.pdf

VI. Application Review Criteria

In the Federal Register of July 28, 2011, in FR Doc. 2011-19135, on page 45225, in the first column, add new element (e) under “3. Commodity and Funds Appropriateness and Management” section to read:

(e) Does the applicant provide a clear explanation of how the requested commodities will meet the nutritional needs and deficiencies of the intended beneficiaries?

In the Federal Register of July 28, 2011, in FR Doc. 2011-19135, on page 45225, in the first column, correct the “6. Literacy (20 percent) including:” caption to read:

6. Framework Alignment (20 percent) including:

In the Federal Register of July 28, 2011, in FR Doc. 2011-19135, on page 45225, in the first column, correct the “9. The following factors will reduce FAS's evaluation of the application because they negatively reflect on an organization's ability to successfully implement and complete a grant agreement with USDA:” section to read:

9. The following factors may negatively reflect on an applicant's ability to successfully implement and complete a grant agreement with FAS. When one or more of these factors applies to an applicant, FAS will consider such factor(s) and may deduct points when evaluating the applicant's proposal against certain of the criteria outlined above. The presence of one or more of these factors will not automatically preclude the applicant from receiving a grant.

(a) FAS has terminated an agreement with the organization within the past 3 years as a result of a violation of the agreement by the organization.

(b) The organization has failed to pay a single substantial debt, or a number of outstanding debts (not including sums owed the Federal Government under the Internal Revenue Code) owed to any Federal agency or instrumentality, provided the debt is uncontested by the organization or, if contested, provided that the organization's legal and administrative remedies have been exhausted.

(c) The organization has failed to submit to FAS, or has submitted more than 5 business days after the due date, at least two required reports within the past 3 years (unless, prior to the due date for a report, the organization obtained written permission from FAS to submit the report after such date).

(d) The organization has, on at least two occasions within the past 3 years, failed to respond, or responded more than 5 business days late, to an FAS deadline for documents required to close out an agreement.

Dated: August 30, 2011.
Bruce Quick,
Acting Administrator, Foreign Agricultural Service.

[FR Doc. 2011-23052 Filed 9-8-11; 8:45 am]

BILLING CODE 3410-10-P